COMMISSION ON CIVIL RIGHTS

Notice of Public Meeting of the New Mexico Advisory Committee to the U.S. Commission on Civil Rights

AGENCY: U.S. Commission on Civil Rights.

ACTION: Announcement of virtual business meetings.

SUMMARY: Notice is hereby given, pursuant to the provisions of the rules and regulations of the U.S. Commission on Civil Rights (Commission) and the Federal Advisory Committee Act, that the New Mexico Advisory Committee (Committee) to the U.S. Commission on Civil Rights will hold a series of business meetings via ZoomGov on the following dates and times listed. The purpose of these meetings is for the Committee to review the latest version of their report on immigrant detention centers in New Mexico.

DATES: These business meetings will take place on:

• Tuesday, April 29, 2025, from 12 p.m.-1 p.m. MT.

• Thursday, May 15, 2025, from 12 p.m.-1 p.m. MT.

ADDRESSES: Zoom Webinar Link to Join (Audio/Visual):

Tuesday, April 29th, https://www.zoomgov.com/webinar/register/WN_IPA9o8FlQKSsgY_AaeZ9aw.

Thursday, May 15th, https://www.zoomgov.com/webinar/register/WN_ijxTYmKMTO6GregFD-85UA.

FOR FURTHER INFORMATION CONTACT: Brooke Peery, Designated Federal Officer, at bpeery@usccr.gov or (202) 701-1376.

SUPPLEMENTARY INFORMATION: Committee meetings are available to the public through the registration link above. Any interested member of the public may listen to the meeting. An open comment period will be provided to allow members of the public to make a statement as time allows. Per the Federal Advisory Committee Act, public minutes of the meeting will include a list of persons who are present at the meeting. If joining via phone, callers can expect to incur regular charges for calls they initiate over wireless lines, according to their wireless plan. The Commission will not refund any incurred charges. Callers will incur no charge for calls they initiate over land-line connections to the toll-free telephone number. Closed captioning will be available for individuals who are deaf, hard of hearing, or who have certain cognitive or learning impairments. To request additional accommodations, please email Angelica Trevino, Support Specialist, at atrevino@usccr.gov at least ten (10) days prior to the meeting.

Members of the public are entitled to make comments during the open period at the end of the meeting. Members of the public may also submit written comments; the comments must be received in the Regional Programs Unit within 30 days following the meeting. Written comments may be emailed to Brooke Peery (DFO) at bpeery@usccr.gov.

Records generated from this meeting may be inspected and reproduced at the Regional Programs Coordination Unit Office, as they become available, both before and after the meeting. Records of the meetings will be available via www.facadatabase.gov under the Commission on Civil Rights, New Mexico Advisory Committee link. Persons interested in the work of this Committee are directed to the Commission's website, https://www.usccr.gov, or may contact the Regional Programs Coordination Unit at atrevino@usccr.gov.

Agenda

I. Welcome & Roll Call

II. Approval of Minutes

III. Committee Discussion

IV. Public Comment

V. Adjournment

Dated: March 25, 2025.
David Mussatt,
Supervisory Chief, Regional Programs Unit.

[FR Doc. 2025-05397 Filed 3-27-25; 8:45 am]

BILLING CODE P